DEPARTMENT OF STATE

[Public Notice: 7609]

Bureau of Educational and Cultural Affairs; Exchange Visitor Program; Summer Work Travel Program Sponsor On-Site Reviews

ACTION: Notice.

SUMMARY: Pursuant to the Mutual Educational and Cultural Exchange Act of 1961 (the “Act”), the Department of State (Department) is authorized to facilitate and direct educational and cultural exchange activities in order to develop and promote mutual understanding between the people of the United States and the people of other countries by means of educational and cultural exchanges. These exchanges, conducted by Department-designated sponsors assist the Department in furthering the foreign policy objectives of the United States. By this Notice, and in order to enhance its continued oversight and monitoring of designated sponsors, the Department announces its intent to conduct on-site reviews of sponsors in the Summer Work Travel Program to evaluate regulatory compliance with Program regulations set forth at 22 CFR Part 62.

The Summer Work Travel Program provides foreign college and university students the opportunity to work and travel in the United States during their extended academic break (i.e., summer vacation) for a period not to exceed four months. On April 26, 2011, the Department published in the Federal Register, an Interim Final Rule governing the Summer Work Travel category of the Exchange Visitor Program. In that rulemaking, the Department explained its three-step approach to addressing a number of concerns regarding sponsor administration of this program. Step one occurred in January 2011 when the Department adopted a pilot program to enhance protections for foreign nationals from Belarus, Bulgaria, Moldova, Romania, Russia, and the Ukraine (“Pilot Program”). Step two was the Interim Final Rule, which incorporated many of the concepts of the Pilot Program into the overall Summer Work Travel program regulations. Now, as step three, the Department intends to conduct on-site reviews of the largest Summer Work Travel program sponsors to monitor sponsor performance, “to assess category-wide regulatory compliance and to consult with sponsors about implementation of the Interim Final Rule.” The Department's close monitoring of Summer Work Travel sponsors during the summer of 2011 has resulted in a modification to its plans for on-site reviews. Specifically, the Department evaluated all Summer Work Travel sponsors' compliance with program regulations regarding the maintenance of current and accurate records in the Student and Exchange Visitor Information System (SEVIS) for the period September 1, 2009 through August 30, 2010. It also reviewed Summer Work Travel-related complaints for the 2011 summer season and monitored the media for additional reports of program problems. As a result of these efforts, the Department has determined that it will not visit sponsors based solely on their size, but instead will conduct compliance reviews of those designated sponsors whose compliance with the relevant Exchange Visitor Program regulations deserve closer examination by the Department.

Currently there are 51 designated exchange sponsor entities in the Summer Work Travel category. Of those, the Department has identified 14 sponsors that will be part of in the upcoming compliance review. Although the Department may later decide to evaluate additional sponsors, at this time, it intends to visit these 14 sponsors (which together sponsor approximately 65% of all Summer Work Travel participants) sometime between October and December 2011. On average, it is expected that each on-site review will take two full business days and will be preceded ten work days' in advance by written notice and a request for certain specified documents.

As noted above, these on-site reviews will focus on evaluating the overall program administration and the effectiveness of the modifications to sponsors' program administration resulting from implementation of the Interim Final Rule and the Pilot Program. A primary goal of these reviews is to assess whether the sponsors have been able “to comply and remain in continual compliance with all provisions of Part 62” (22 CFR 62.3(b)(1)). To this end, the reviews will focus on sponsor compliance with the Pilot Program guidelines and participant monitoring requirements, maintenance of accurate SEVIS records, and sponsors' relationships with third parties they have engaged to assist in carrying out the core programmatic functions inherent in the administration of exchange visitor programs, as set forth in the regulations in Part 62 (i.e., screening, selection, orientation, placement, monitoring, and the promotion of mutual understanding). Other areas of interest may include sponsors' roles in assisting participants in finding suitable housing; decision-making processes (including the numbers of participants accepted); self-imposed compliance mechanisms; procedures for handling student participant problems (including finding new jobs for those whose pre-arranged placements were unsatisfactory); and policies for refunding deposits or payments to student participants.

Finally, the Department intends to use these reviews as an opportunity for sponsors to provide feedback on the Pilot Program and the Interim Final Rule in general, and more specifically, sponsors' experience with the relevant new regulatory provisions during the summer season of 2011. Feedback will be used to assist in issuing the Final Rule. Best practices will be collected from the on-site reviews and shared with the wider sponsor community. Sponsors who are not included in these reviews and wish to comment should address their comments and concerns to the Department at JVisas@State.gov.

The Department believes these compliance reviews are one of many critical steps that can help ensure the Summer Work Travel program meets the underlying goals of the Act while also allowing participants to enjoy safe and successful exchange program experiences conducted within the parameters of the Exchange Visitor Program regulations.

Dated: September 16, 2011.
Rick A. Ruth,
Deputy Assistant Secretary for Private Sector Exchange, Acting, Bureau of Educational and Cultural Affairs, Department of State.

[FR Doc. 2011-24551 Filed 9-22-11; 8:45 am]

BILLING CODE 4710-05-P